DEPARTMENT OF JUSTICE

Notice of Lodging of Proposed Consent Decree Modification Under the Clean Water Act

Notice is hereby given that, for a period of 30 days, the United States will receive public comments on a proposed Consent Decree Modification in United States and the State of Indiana v. City of Evansville, Indiana, et al. (3:09-cv-128-WTL-WGH), which was lodged with the United States District Court for the Southern District of Indiana on February 18, 2016.

In this action, the United States' and the State of Indiana's Complaint filed in 2009 sought civil penalties and injunctive relief for violations of the Clean Water Act, 33 U.S.C. 1251 et seq., in connection with the City of Evansville's operation of its municipal wastewater and sewer system. The allegations in that Complaint were resolved in a Consent Decree, entered on June 22, 2011, in which the City of Evansville agreed, among other things, to develop a long term Integrated Overflow Control Plan that would remedy the deficiencies in the capacity, operation and maintenance of Evansville's East Plant and West Plant, combined sewer system, and sanitary sewer system. The current proposed Consent Decree Modification would adopt and incorporate Evansville's finalized plan for remedying these deficiencies, which includes implementation of specific wastewater treatment and capacity upgrades and capital improvement projects over a 25-year period at an estimated cost of $729 million.

The publication of this notice opens a period for public comment on the proposed Consent Decree Modification. Comments should be addressed to the Assistant Attorney General, Environment and Natural Resources Division, and should refer to United States and the State of Indiana v. City of Evansville, Indiana, et al., D.J. Ref. No. 90-5-1-1-08738. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed Consent Decree Modification may be examined and downloaded at this Justice Department Web site: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $15.50 (25 cents per page reproduction cost) payable to the United States Treasury.

Randall M. Stone,
Acting Assistant Section Chief, Environmental Enforcement Section, Environment and Natural Resources Division.

[FR Doc. 2016-03891 Filed 2-23-16; 8:45 am]

BILLING CODE 4410-15-P